DEPARTMENT OF HEALTH AND HUMAN SERVICES

Food and Drug Administration

21 CFR Part 5

[Docket No. FDA-2018-N-0011]

Revision of Organization; Technical Amendment

AGENCY: Food and Drug Administration, HHS.

ACTION: Final rule; technical amendment.

SUMMARY: The Food and Drug Administration (FDA or Agency) is amending its regulations to reflect organizational change for the Office of Regulatory Policy, Center for Drug Evaluation and Research (CDER), Office of Medical Products and Tobacco. FDA is taking this action to ensure accuracy and clarity in the Agency's regulations.

DATES: This rule is effective March 27, 2018.

FOR FURTHER INFORMATION CONTACT: Florine Purdie, Center for Drug Evaluation and Research, Food and Drug Administration, 10903 New Hampshire Ave. Bldg. 51, Rm. 6248, Silver Spring, MD 20993-0002, 301-796-3601.

SUPPLEMENTARY INFORMATION: FDA is amending 21 CFR 5.1100 to update the organizational information for the Office of Regulatory Policy, CDER, Office of Medical Products and Tobacco.

Publication of this document constitutes final action on this change under the Administrative Procedure Act (5 U.S.C. 553). FDA has determined that notice and public comment are unnecessary because this amendment to the regulations provides only a technical change to update the organizational information for the Office of Regulatory Policy, CDER, Office of Medical Products and Tobacco.

List of Subjects in 21 CFR Part 5

Authority delegations (Government agencies), Imports, Organization and functions (Government agencies).

Therefore, under the Federal Food, Drug, and Cosmetic Act and under authority delegated to the Commissioner of Food and Drugs, 21 CFR part 5 is amended as follows:

PART 5—ORGANIZATION

1. The authority citation for part 5 continues to read as follows:

Authority: 5 U.S.C. 552; 21 U.S.C. 301-397.

§ 5.1100 [Amended]

2. In § 5.1100, under the heading “OFFICE OF MEDICAL PRODUCTS AND TOBACCO”, under “Office of Regulatory Policy.”, under “Division of Regulatory Policy III.”, add the words “Division of Regulatory Policy IV.”.

Dated: March 21, 2018.
Leslie Kux,
Associate Commissioner for Policy.

[FR Doc. 2018-06065 Filed 3-26-18; 8:45 am]

BILLING CODE 4164-01-P